DEPARTMENT OF HOMELAND SECURITY

Federal Emergency Management Agency

[Docket ID: FEMA-2020-0010; OMB No. 1660-0033]

Agency Information Collection Activities: Proposed Collection; Comment Request; Residential Basement Floodproofing Certification

AGENCY: Federal Emergency Management Agency, DHS.

ACTION: Notice and request for comments.

SUMMARY: The Federal Emergency Management Agency, as part of its continuing effort to reduce paperwork and respondent burden, invites the general public to take this opportunity to comment on an extension, without change, of a currently approved information collection. In accordance with the Paperwork Reduction Act of 1995, this notice seeks comments concerning information collected for eligible properties insured under the National Flood Insurance Program (NFIP) policies to certify the floodproofing of residential basements.

DATES: Comments must be submitted on or before June 8, 2020.

ADDRESSES: To avoid duplicate submissions to the docket, please use only one of the following means to submit comments:

(1) Online. Submit comments at www.regulations.gov under Docket ID FEMA-2020-0010. Follow the instructions for submitting comments.

(2) Mail. Submit written comments to Docket Manager, Office of Chief Counsel, DHS/FEMA, 500 C Street SW, 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy and Security Notice that is available via the link on the homepage of www.regulations.gov.

FOR FURTHER INFORMATION CONTACT: Joycelyn Collins, Underwriting Branch Program Analyst, Federal Insurance Directorate, 202-212-4716. You may contact the Information Management Division for copies of the proposed collection of information at email address: FEMA-Information-Collections-Management@fema.dhs.gov.

SUPPLEMENTARY INFORMATION: The National Flood Insurance Program (NFIP) is authorized by Public Law 90-448 (1968) and expanded by Public Law 93-234 (1973) and requires that the Federal Emergency Management Agency (FEMA) provide flood insurance. FEMA delineates flood zones on a Flood Insurance Rate Map to identify Special Flood Hazard Areas (SFHAs) in a community. Title 44 CFR 60.3(c)(2) requires that all new construction and substantial improvements of residential structures within SFHA Zones A1-30, AE and AH zones have the lowest floor, including the basement, elevated to or above the base flood level unless an exception is granted. Title 44 CFR 60.6(a)(7) and 44 CFR 60.6(b)(1) allow communities to apply for an exception when circumstances present a hardship that would not allow for adherence to the requirement for elevation above the base flood level. This exception must meet the conditions set forth in 44 CFR 60.6(c). When owners of residential structures in these zones are seeking flood insurance, they must be certified that the structural design is floodproof.

Collection of Information

Title: Residential Basement Floodproofing Certification.

Type of Information Collection: Extension, without change, of a currently approved information collection.

OMB Number: 1660-0033.

FEMA Forms: FEMA Form 086-0-24, Residential Basement Floodproofing Certification.

Abstract: The Residential Basement Floodproofing Certification, completed by a registered professional surveyor, engineer, or architect, is required to certify that floodproofing of a structure meets at least minimal floodproofing specifications. Residential structures that receive this certification are granted reduced rates on flood insurance premiums.

Affected Public: Business or other for-profit.

Estimated Number of Respondents: 10.

Estimated Number of Responses: 10.

Estimated Total Annual Burden Hours: 32.5.

Estimated Total Annual Respondent Cost: $2,138.

Estimated Respondents' Operation and Maintenance Costs: $5,000.

Estimated Respondents' Capital and Start-Up Costs: 0.

Estimated Total Annual Cost to the Federal Government: $44.59.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Maile Arthur,
Acting Records Management Branch Chief, Office of the Chief Administrative Officer, Mission Support, Federal Emergency Management Agency, Department of Homeland Security.

[FR Doc. 2020-07270 Filed 4-6-20; 8:45 am]

BILLING CODE 9111-52-P